DEPARTMENT OF HEALTH AND HUMAN SERVICES

Health Resources and Services Administration

Agency Information Collection Activities: Proposed Collection: Public Comment Request Information Collection Request Title: Health Resources and Service Administration Uniform Data System, OMB No. 0915-0193—Revision

AGENCY: Health Resources and Services Administration (HRSA), Department of Health and Human Services.

ACTION: Notice.

SUMMARY: In compliance with the requirement for opportunity for public comment on proposed data collection projects of the Paperwork Reduction Act of 1995, HRSA announces plans to submit an Information Collection Request (ICR), described below, to the Office of Management and Budget (OMB). Prior to submitting the ICR to OMB, HRSA seeks comments from the public regarding the burden estimate, below, or any other aspect of the ICR.

DATES: Comments on this ICR must be received no later than August 27, 2018.

ADDRESSES: Submit your comments to paperwork@hrsa.gov or mail the HRSA Information Collection Clearance Officer, Room 14N39, 5600 Fishers Lane, Rockville, MD 20857.

FOR FURTHER INFORMATION CONTACT: To request more information on the proposed project or to obtain a copy of the data collection plans and draft instruments, email paperwork@hrsa.gov or call Lisa Wright-Solomon, HRSA Information Collection Clearance Officer at (301) 443-1984.

SUPPLEMENTARY INFORMATION: When submitting comments or requesting information, please include the information request collection title for reference.

Information Collection Request Title: HRSA Uniform Data System (UDS), OMB No. 0915-0193—Revision.

Abstract: HRSA utilizes the UDS for annual reporting by certain HRSA award recipients, including Health Center Program awardees (those funded under section 330 of the Public Health Service (PHS) Act), Health Center Program look-alikes, and Nurse Education, Practice, Quality and Retention (NEPQR) Program awardees (specifically those funded under the practice priority areas of section 831(b) of the PHS Act).

Need and Proposed Use of the Information: HRSA collects UDS data annually to ensure compliance with legislative and regulatory requirements, improve clinical and operational performance, and report overall program accomplishments. These data help to identify trends over time, enabling HRSA to establish or expand targeted programs and to identify effective services and interventions that will improve the health of medically underserved communities. HRSA compares UDS data with other national health-related data sets to compare HRSA award recipient patient populations and the overall U.S. population.

HRSA is considering several changes for 2019 UDS data collection:

• Substance Use Disorder and Mental Health Services: Collect substance use disorder and mental health services by provider specialty to better assess which providers are delivering behavioral health services; support investments in these priority areas; and better describe comprehensive, integrated models of care.

• Closing the Referral Loop: Receipt of Specialist Report (https://ecqi.healthit.gov/ecqm/measures/cms050v6t): Add a clinical quality measure from the Centers for Medicare and Medicaid Services (CMS) electronic-specified clinical quality measures to address care coordination.

• Health Information Technology (health IT): Streamline and clarify health IT questions regarding utilization of health IT to include information sharing, patient engagement, quality improvement, and program evaluation and research.

• Statin Therapy for the Prevention and Treatment of Cardiovascular Disease (https://ecqi.healthit.gov/ecqm/measures/cms347v1): Replace the current non-specified Coronary Artery Disease measure with an e-specified measure that aligns with the Centers for Disease Control and Prevention and the CMS Million Hearts® clinical quality measures relating to statin therapy.

• Telemedicine and Virtual Visits: Collect information on services provided via telemedicine or virtual visits by provider in order to capture the changing health care delivery landscape.

• Tenure for Health Center Staff: Retire Table 5A related to the tenure for staff.

• Workforce: Collect workforce related information, including workforce satisfaction and health professional training.

Likely Respondents: The respondents will include Health Center Program awardees, Health Center Program look-alikes, and NEPQR Program awardees funded under the practice priority areas of section 831(b) of the PHS Act.

Burden Statement: Burden includes the time expended by persons to generate, maintain, retain, disclose or provide the information requested. This includes the time needed to review instructions; to develop, acquire, install, and utilize technology and systems for the purpose of: Collecting, validating and verifying information, processing and maintaining information, disclosing and providing information. It also accounts for time to train personnel, respond to a collection of information, search data sources, complete and review the collection of information, and transmit or otherwise disclose the information. The total annual burden hours estimated for this ICR are summarized in the table below.

Total Estimated Annualized Burden Hours
Form name | Number of respondents | Number of responses per respondent | Total responses | Average burden per response (in hours) | Total burden hours
Universal Report | 1,471 | 1 | 1,471 | 223 | 328,033
Grant Report | 504 | 1 | 504 | 30 | 15,120
Total | 1,975 |  | 1,975 |  | 343,153

HRSA specifically requests comments on: (1) The necessity and utility of the proposed information collection for the proper performance of the agency's functions; (2) the accuracy of the estimated burden; (3) ways to enhance the quality, utility, and clarity of the information to be collected; and (4) the use of automated collection techniques or other forms of information technology to minimize the information collection burden.

Amy P. McNulty,
Acting Director, Division of the Executive Secretariat.

[FR Doc. 2018-13587 Filed 6-25-18; 8:45 a.m.]

BILLING CODE 4165-15-P